COUNCIL OF THE INSPECTORS GENERAL ON INTEGRITY AND EFFICIENCY

Senior Executive Service Performance Review Board Membership

AGENCY: Council of the Inspectors General on Integrity and Efficiency.

ACTION: Notice.

SUMMARY: This notice sets forth the names and titles of the current membership of the Council of the Inspectors General on Integrity and Efficiency (CIGIE) Performance Review Board as of October 1, 2019.

DATES: Applicable: October 1, 2019.

FOR FURTHER INFORMATION CONTACT: Individual Offices of Inspectors General at the telephone numbers listed below.

SUPPLEMENTARY INFORMATION:

I. Background

The Inspector General Act of 1978, as amended, created the Offices of Inspectors General as independent and objective units to conduct and supervise audits and investigations relating to Federal programs and operations. The Inspector General Reform Act of 2008, established the Council of the Inspectors General on Integrity and Efficiency (CIGIE) to address integrity, economy, and effectiveness issues that transcend individual Government agencies; and increase the professionalism and effectiveness of personnel by developing policies, standards, and approaches to aid in the establishment of a well-trained and highly skilled workforce in the Offices of Inspectors General. The CIGIE is an interagency council whose executive chair is the Deputy Director for Management, Office of Management and Budget, and is comprised principally of the 73 Inspectors General (IGs).

II. CIGIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October 1, 2019, are as follows:

Agency for International Development

Phone Number: (202) 712-1150

CIGIE Liaison—Thomas Ullom (202) 712-1150

Thomas Ullom—Deputy Inspector General.

Justin Brown—Counselor to the Inspector General (SL).

Daniel Altman—Assistant Inspector General for Investigations.

Suzann Gallaher—Deputy Assistant Inspector General for Investigations.

Thomas Yatsco—Assistant Inspector General for Audit.

Alvin A. Brown—Deputy Assistant Inspector General for Audit.

Toayoa Aldridge—Deputy Assistant Inspector General for Audit.

Jason Carroll—Assistant Inspector General for Management.

Parisa Salehi—Deputy Assistant Inspector General for Management.

Nicole Angarella—General Counsel to the Inspector General.

Department of Agriculture

Phone Number: (202) 720-8001

CIGIE Liaison—Angel N. Bethea (202) 720-8001

Ann M. Coffey—Deputy Inspector General.

Christy A. Slamowitz—Counsel to the Inspector General.

Gilroy Harden—Assistant Inspector General for Audit.

Steven H. Rickrode, Jr.—Deputy Assistant Inspector General for Audit.

Yarisis Rivera Rojas—Deputy Assistant Inspector General for Audit.

Peter P. Paradis, Sr.—Deputy Assistant Inspector General for Investigations.

Virginia E.B. Rone—Assistant Inspector General for Data Sciences.

Robert J. Huttenlocker—Assistant Inspector General for Management.

Department of Commerce

Phone Number: (202) 482-4661

CIGIE Liaison—Clark Reid (202) 482-4661

E. Wade Green—Counsel to the Inspector General.

Richard Bachman—Assistant Inspector General for Audits.

Carol Rice—Assistant Inspector General for Audits.

Mark Zabarsky—Principal Assistant Inspector General.

Department of Defense

Phone Number: (703) 604-8324

Acting CIGIE Liaison—Brett Mansfield (703) 604-8300

Daniel R. Blair—Deputy Chief of Staff.

Michael S. Child, Sr.—Deputy Inspector General for Overseas Contingency Operations.

Carol N. Gorman—Assistant Inspector General for Readiness and Cyber Operations.

Paul Hadjiyane—General Counsel.

Carolyn R. Hantz—Assistant Inspector General for Program, Combatant Command and Overseas Contingency Operations.

Glenn A. Fine—Principal Deputy Inspector General.

Janice M. Flores—Assistant Inspector General for Investigations, Internal Operations.

Marguerite C. Garrison—Deputy Inspector General for Administrative Investigations.

Theresa S. Hull—Assistant Inspector General for Acquisition and Sustainment Management.

Kelly P. Mayo—Assistant Inspector General for Investigations.

Troy M. Meyer—Principal Assistant Inspector General for Audit.

Dermot F. O'Reilly—Deputy Inspector General for Investigations.

Michael J. Roark—Deputy Inspector General for Evaluations.

Steven A. Stebbins—Chief of Staff.

Paul K. Sternal—Assistant Inspector General for Investigations, Investigative Operations.

Randolph R. Stone—Assistant Inspector General for Space, Intelligence, Engineering, and Oversight.

Richard B. Vasquez—Assistant Inspector General for Readiness and Global Operations.

Lorin T. Venable—Assistant Inspector General for Financial Management and Reporting.

Jacqueline L. Wicecarver—Deputy Inspector General for Audit.

David G. Yacobucci—Assistant Inspector General for Data Analytics.

Department of Education OIG

Phone Number: (202) 245-6900

CIGIE Liaison—Keith Maddox (202) 748-4339

David Morris—Assistant Inspector General for Management Services.

Robert Mancuso—Assistant Inspector General for Information Technology Audits and Computer Crimes Investigations.

Bryon Gordon—Assistant Inspector General for Audit.

Sean Dawson—Deputy Assistant Inspector General for Audit.

Aaron Jordan—Assistant Inspector General for Investigations.

Mark Smith—Deputy Assistant Inspector General for Investigations.

Department of Energy

Phone Number: (202) 586-4393

CIGIE Liaison—Sabrina Ferguson-Ward (202) 586-5798

John Dupuy—Acting Principal Deputy Inspector General and Deputy Inspector General for Investigations.

Virginia Grebasch—Counsel to the Inspector General.

Michelle Anderson—Deputy Inspector General for Audits and Inspections.

Dustin Wright—Assistant Inspector General for Investigations.

Sarah Nelson—Assistant Inspector General for Audits and Administration.

Jennifer Quinones—Assistant Inspector General for Audits and Inspections—Eastern.

Bruce Miller—Assistant Inspector General for Audits and Inspections—Western.

Jack Rouch—Deputy Assistant Inspector General for Audits.

Debra Solmonson—Deputy Assistant Inspector General for Audits and Inspections.

John McCoy II—Deputy Assistant Inspector General for Audits.

Environmental Protection Agency

CIGIE Liaison—Jennifer Kaplan (202) 566-0918

Charles Sheehan—Deputy Inspector General.

Edward Shields—Associate Deputy Inspector General.

Kevin Christensen—Assistant Inspector General for Audit and Evaluation.

Helina Wong—Assistant Inspector General for Investigations.

Federal Labor Relations Authority

Phone Number: (202) 218-7744

CIGIE Liaison—Dana Rooney (202) 218-7744

Dana Rooney—Inspector General.

Federal Maritime Commission

Phone Number: (202) 523-5863

CIGIE Liaison—Jon Hatfield (202) 523-5863

Jon Hatfield—Inspector General.

Federal Trade Commission

Phone Number: (202) 326-2355

CIGIE Liaison—Andrew Katsaros (202) 326-2355

Andrew Katsaros—Inspector General.

General Services Administration

Phone Number: (202) 501-0450

CIGIE Liaison—Phyllis Goode (202) 273-7270

Robert C. Erickson—Deputy Inspector General.

Larry L. Gregg—Associate Inspector General.

Edward Martin—Counsel to the Inspector General.

R. Nicholas Goco—Assistant Inspector General for Audits.

Barbara Bouldin—Deputy Assistant Inspector General for Acquisition Program Audits.

Brian Gibson—Deputy Assistant Inspector General for Real Property Audits.

James E. Adams—Assistant Inspector General for Investigations.

Patricia D. Sheehan—Assistant Inspector General for Inspections.

Kristine Preece—Assistant Inspector General for Administration.

Department of Health and Human Services

Phone Number: (202) 619-3148

CIGIE Liaison—Elise Stein (202) 619-2686

Christi Grimm—Chief of Staff.

Robert Owens, Jr.—Deputy Inspector General for Management and Policy.

Caryl Brzymialkiewicz—Assistant Inspector General/Chief Data Officer.

Chris Chilbert—Assistant Inspector General/Chief Information Officer.

Gary Cantrell—Deputy Inspector General for Investigations.

Suzanne Murrin—Deputy Inspector General for Evaluation and Inspections.

Erin Bliss—Assistant Inspector General for Evaluation and Inspections.

Ann Maxwell—Assistant Inspector General for Evaluation and Inspections.

Gregory Demske—Chief Counsel to the Inspector General.

Robert DeConti—Assistant Inspector General for Legal Affairs.

Lisa Re—Assistant Inspector General for Legal Affairs.

Gloria Jarmon—Deputy Inspector General for Audit Services.

Amy Frontz—Assistant Inspector General for Audit Services.

Carrie Hug—Assistant Inspector General for Audit Services.

Brian Ritchie—Assistant Inspector General for Audit Services.

Department of Homeland Security

Phone Number: (202) 981-6000

CIGIE Liaison—Erica Paulson (202) 981-6392

Jennifer Costello—Deputy Inspector General.

Karen Ouzts—Deputy Counsel.

Diana Shaw—Assistant Inspector General for Special Reviews and Evaluations.

Donald Bumgardner—Deputy Assistant Inspector General for Audits.

Maureen Duddy—Deputy Assistant Inspector General for Audits.

Erica Paulson—Assistant Inspector General for External Affairs.

Sondra McCauley—Assistant Inspector General for Audits.

Thomas Salmon—Assistant Inspector General for Integrity and Quality Oversight.

Louise M. McGlathery—Assistant Inspector General for Management.

Department of Housing and Urban Development

Phone Number: (202) 708-0430

CIGIE Liaison—Michael White (202) 402-8410

Charles Jones—Deputy Inspector General.

John Buck—Deputy Assistant Inspector General for Audit.

Kimberly Randall—(Acting) Assistant Inspector General for Audit.

Laura Farrior—Deputy Assistant Inspector General for Management.

Christopher Webber—Deputy Assistant Inspector General for Information Technology.

Jeremy Kirkland—Counsel to the Inspector General.

Brian Pattison—Assistant Inspector General for Evaluation.

Department of the Interior

Phone Number: (202) 208-5635

CIGIE Liaison—Karen Edwards (202) 208-5635

Steve Hardgrove—Chief of Staff.

Kimberly McGovern—Assistant Inspector General for Audits, Inspections and Evaluations.

Matthew Elliott—Assistant Inspector General for Investigations.

Bruce Delaplaine—General Counsel.

Department of Justice

Phone Number: (202) 514-3435

CIGIE Liaison—John Lavinsky (202) 514-3435

William M. Blier—Deputy Inspector General.

Jonathan M. Malis—General Counsel.

Michael Sean O'Neill—Assistant Inspector General for Oversight and Review.

Patricia Sumner—Deputy Assistant Inspector General for Oversight and Review.

Jason R. Malmstrom—Assistant Inspector General for Audit.

Mark L. Hayes—Deputy Assistant Inspector General for Audit.

Sarah E. Lake—Assistant Inspector General for Investigations.

Nina S. Pelletier—Assistant Inspector General for Evaluation and Inspections.

Gregory T. Peters—Assistant Inspector General for Management and Planning.

Cynthia Lowell—Deputy Assistant Inspector for Management and Planning.

Department of Labor

Phone Number: (202) 693-5100

CIGIE Liaison—Luiz A. Santos (202) 693-7062

Larry D. Turner—Deputy Inspector General.

Dee Thompson—Counsel to the Inspector General.

Elliot P. Lewis—Assistant Inspector General for Audit.

Leia Burks—Deputy Assistant Inspector General for Investigations—Labor Racketeering and Fraud.

Thomas D. Williams—Assistant Inspector General for Management and Policy.

Charles Sabatos—Deputy Assistant Inspector General for Management and Policy.

Luiz A. Santos—Assistant Inspector General for Congressional and Public Relations.

Jessica Southwell—Chief Performance and Risk Management Officer.

National Aeronautics and Space Administration

Phone Number: (202) 358-1220

CIGIE Liaison—Renee Juhans (202) 358-1712

George A. Scott—Deputy Inspector General.

Frank LaRocca—Counsel to the Inspector General.

James R. Ives—Assistant Inspector General for Investigations.

Kimberly F. Benoit—Assistant Inspector General for Audits.

Ross W. Weiland—Assistant Inspector General for Management Planning.

National Archives and Records Administration

Phone Number: (301) 837-3000

CIGIE Liaison—John Simms (301) 837-3000

Jewel Butler—Assistant Inspector General for Audit.

Jason Metrick—Assistant Inspector General for Investigations.

National Labor Relations Board

Phone Number: (202) 273-1960

CIGIE Liaison—Robert Brennan (202) 273-1960

David P. Berry—Inspector General.

National Science Foundation

Phone Number: (703) 292-7100

CIGIE Liaison—Lisa Vonder Haar (703) 292-2989

Megan Wallace—Assistant Inspector General for Investigations.

Mark Bell—Assistant Inspector General for Audits.

Alan Boehm—Assistant Inspector General for Management.

Ken Chason—Counsel to the Inspector General.

Nuclear Regulatory Commission

Phone Number: (301) 415-5930

CIGIE Liaison—Judy Gordon (301) 415-5913

David C. Lee—Deputy Inspector General.

Rocco J. Pierri—Assistant Inspector General for Investigations.

Brett M. Baker—Assistant Inspector General for Audits.

Office of Personnel Management

Phone Number: (202) 606-1200

CIGIE Liaison—Faiza Mathon-Mathieu (202) 606-2236

Norbert E. Vint—Deputy Inspector General/Deputy Inspector General Performing the Duties of the Inspector General.

Michael R. Esser—Assistant Inspector General for Audits.

Melissa D. Brown—Deputy Assistant Inspector General for Audits.

Lewis F. Parker, Jr.—Deputy Assistant Inspector General for Audits.

Drew M. Grimm—Assistant Inspector General for Investigations.

Thomas W. South—Deputy Assistant Inspector General for Investigations.

James L. Ropelewski—Assistant Inspector General for Management.

Nicholas E. Hoyle—Deputy Assistant Inspector General for Management.

Gopala Seelamneni—Chief Information Technology Officer.

Peace Corps

Phone Number: (202) 692-2900

CIGIE Liaison—Joaquin Ferrao (202) 692-2921

Kathy Buller—Inspector General (Foreign Service).

Joaquin Ferrao—Deputy Inspector General and Legal Counsel (Foreign Service).

United States Postal Service

Phone Number: (703) 248-2100

CIGIE Liaison—Agapi Doulaveris (703) 248-2286

Elizabeth Martin—General Counsel.

Gladis Griffith—Deputy General Counsel.

Katherine Reilly—Deputy Assistant Inspector General, Mission Support.

Railroad Retirement Board

Phone Number: (312) 751-4690

CIGIE Liaison—Jill Roellig (312) 751-4993

Patricia A. Marshall—Counsel to the Inspector General.

Small Business Administration

Phone Number: (202) 401-0753

CIGIE Liaison—Mary Kazarian (202) 205-6586

Mark P. Hines—Assistant Inspector General for Investigations.

Andrea Deadwyler—Assistant Inspector General for Audits.

Sheldon Shoemaker—Assistant Inspector General for Management and Operations.

Social Security Administration

Phone Number: (410) 966-8385

CIGIE Liaison—Walter E. Bayer, Jr. (202) 358-6319

Steven L. Schaeffer—Chief of Staff.

Rona Lawson—Assistant Inspector General for Audit.

Joseph Gangloff—Chief Counsel to the Inspector General.

Michael Robinson—Senior Advisor to the Inspector General for Law Enforcement.

Jennifer Walker—Assistant Inspector General for Investigations.

Joscelyn Funnié—Counsel for Investigations and Enforcement.

Special Inspector General for the Troubled Asset Relief Program

Phone Number: (202) 622-1419

CIGIE Liaison—Kevin Gerrity (202) 622-8670

Kevin Gerrity—Deputy Special Inspector General.

Vincent Micone III—Assistant Inspector General—Management.

Department of State and the Broadcasting Board of Governors

Phone Number: (571) 348-3804

CIGIE Liaison—Sarah Breen (571) 348-3992

Norman P. Brown—Assistant Inspector General for Audits.

Sandra J. Lewis—Assistant Inspector General for Inspections.

Michael T. Ryan—Assistant Inspector General for Investigations.

Kevin S. Donohue—Deputy General Counsel.

Gayle L. Voshell—Deputy Assistant Inspector General for Audits.

Tinh T. Nguyen—Deputy Assistant Inspector General for Audits, Middle East Region Operations.

Lisa R. Rodely—Deputy Assistant Inspector General for Inspections.

Jeffrey D. Johnson—Deputy Assistant Inspector General for Inspections.

Brian Grossman—Deputy Assistant Inspector General for Investigations.

Donna J. Butler—Assistant Inspector General for Management.

Jeffrey McDermott—Assistant Inspector General for Evaluations and Special Projects.

Department of Transportation

Phone Number: (202) 366-1959

CIGIE Liaison—Nathan P. Richmond (202) 493-0422

Mitchell L. Behm—Deputy Inspector General.

Joseph W. Comé—Principal Assistant Inspector General for Auditing and Evaluation.

Charles A. Ward—Assistant Inspector General for Audit Operations and Special Reviews.

Matthew E. Hampton—Assistant Inspector General for Aviation Audits.

Barry DeWeese—Assistant Inspector General for Surface Transportation Audits.

Louis C. King—Assistant Inspector General for Financial and Information Technology Audits.

Mary Kay Langan-Feirson—Assistant Inspector General for Acquisition and Procurement Audits.

David Pouliott—Deputy Assistant Inspector General for Surface Transportation Audits.

Anthony Zakel—Deputy Assistant Inspector General for Aviation Audits.

Department of the Treasury

Phone Number: (202) 622-1090

CIGIE Liaison—Rich Delmar (202) 927-3973

Richard K. Delmar—Acting Inspector General.

Jeffrey Lawrence—Assistant Inspector General for Management.

Sally Luttrell—Assistant Inspector General for Investigations.

Deborah L. Harker—Assistant Inspector General for Audit.

Pauletta Battle—Deputy Assistant Inspector General for Financial Management and Transparency Audits.

Lisa A. Carter—Deputy Assistant Inspector General for Financial Sector Audits.

Donna F. Joseph—Deputy Assistant Inspector General for Cyber and Financial Assistance Audits.

Treasury Inspector General for Tax Administration/Department of the Treasury

Phone Number: (202) 622-6500

CIGIE Liaison—David Barnes (Acting) (202) 622-3062

Gladys Hernandez—Chief Counsel.

James Jackson—Deputy Inspector General for Investigations.

Gregory Kutz—Deputy Inspector General for Inspections and Evaluations.

Nancy LaManna—Assistant Inspector General for Audit, Management, Planning, and Workforce Development.

Russell Martin—Assistant Inspector General for Audit, Returns Processing, and Accounting Services.

Michael McKenney—Deputy Inspector General for Audit.

Danny Verneuille—Assistant Inspector General for Audit, Security, and Information Technology Services.

Matthew Weir—Assistant Inspector General for Audit, Compliance, and Enforcement Operations.

Jeffrey Long—Assistant Inspector General for Investigations, Threat, Agent Safety, and Sensitive Investigations Directorate.

Trevor Nelson—Assistant Inspector General for Investigations.

Ruben Florez—Assistant Inspector General for Investigations—Field.

Department of Veterans Affairs

Phone Number: (202) 461-4720

CIGIE Liaison—Jennifer Geldhof (202) 461-4677

Roy Fredrikson—Deputy Counselor to the Inspector General.

Brent Arronte—Deputy Assistant Inspector General for Audits and Evaluations.

John D. Daigh—Assistant Inspector General for Healthcare Inspections.

Dated: September 10, 2019.
Douglas Holt,
Acting Executive Director.

[FR Doc. 2019-20033 Filed 9-16-19; 8:45 am]

BILLING CODE 6820-C9-P